DEPARTMENT OF THE INTERIOR

Bureau of Land Management

[OR-030-01-1020-PE: GP1-0068]

Notice of Meeting of John Day/Snake Resource Advisory Council

AGENCY: Vale District, Bureau of Land Management, Interior.

ACTION: Meeting of John Day/Snake Resource Advisory Council (RAC): Pendleton, Oregon February 12-13, 2001.

SUMMARY: On February 12, 2001 at 11 a.m. there will be a meeting of the John Day/Snake RAC at the Red Lion Hotel, 304 Southeast Nye Avenue in Pendleton, Oregon. The meeting is open to the public. Public comments will be received at 10 a.m. on February 13, 2001. The following topics will be discussed by the council: RAC membership update; Hells Canyon Subgroup update; Blue Mountain Subgroup update; ICBEMP Subgroup update; OHV Subgroup update; Noxious Weeds Subgroup udpate; Program of work review; Counties Payment Act (1608 Act); and a 15 minute round table for general issues.

FOR FURTHER INFORMATION CONTACT: Sandy L. Guches, Bureau of Land Management, Vale District Office, 100 Oregon Street, Vale, Oregon 97918, Telephone (541) 473-3144

Sandy L. Guches,
Acting District Manager.

[FR Doc. 01-1005 Filed 1-11-01; 8:45 am]

BILLING CODE 4310-33-M